DEPARTMENT OF HEALTH AND HUMAN SERVICES

Food and Drug Administration

[Docket No. FDA-2017-N-0001]

Preparation for International Cooperation on Cosmetics Regulation Eleventh Annual Meeting; Public Meeting

AGENCY: Food and Drug Administration, HHS.

ACTION: Notice of public meeting.

SUMMARY: The Food and Drug Administration (FDA or we) is announcing a public meeting entitled “International Cooperation on Cosmetics Regulation (ICCR)—Preparation for ICCR-11 Meeting.” The purpose of the meeting is to invite public input on various topics pertaining to the regulation of cosmetics. We may use this input to help us prepare for the ICCR-11 meeting that will be held July 12-14, 2017, in Brasilia, Brazil.

DATES: The public meeting will be held on May 25, 2017, from 2 p.m. to 4 p.m. See the SUPPLEMENTARY INFORMATION section for registration date and information.

ADDRESSES: The public meeting will be held at the Food and Drug Administration, Center for Food Safety and Applied Nutrition, 5001 Campus Dr., Wiley Auditorium (first floor), College Park, MD 20740.

FOR FURTHER INFORMATION CONTACT: Jonathan Hicks, Office of Cosmetics and Colors, Food and Drug Administration, 5001 Campus Dr. (HFS-125), College Park, MD 20740, email: jonathan.hicks@fda.hhs.gov, 240-402-1375.

SUPPLEMENTARY INFORMATION:

I. Background

The purpose of the multilateral framework on the ICCR is to pave the way for the removal of regulatory obstacles to international trade while maintaining global consumer protection. The purpose of the meeting is to invite public input on various topics pertaining to the regulation of cosmetics. We may use this input to help us prepare for the ICCR-11 meeting that will be held July 12-14, 2017, in Brasilia, Brazil.

ICCR is a voluntary international group of cosmetics regulatory authorities from Brazil, Canada, the European Union, Japan, and the United States of America. These regulatory authority members will enter into constructive dialogue with their relevant cosmetics industry trade associations and public advocacy groups. Currently, the ICCR members are: The Brazilian Health Surveillance Agency; Health Canada; the European Commission Directorate-General for Internal Market, Industry, Entrepreneurship, and Small and Medium-sized Enterprises; the Ministry of Health, Labor, and Welfare of Japan; and FDA. All decisions made by consensus will be compatible with the laws, policies, rules, regulations, and directives of the respective administrations and governments. Members will implement and/or promote actions or documents within their own jurisdictions and seek convergence of regulatory policies and practices. Successful implementation will need input from stakeholders.

II. Topics for Discussion at the Public Meeting

We will make the agenda for the public meeting available on the Internet at http://www.fda.gov/Cosmetics/InternationalActivities/ICCR/default.htm. Depending on the number of requests for oral presentations, we intend to have an agenda available by May 18, 2017.

III. Participating in the Public Meeting

Registration: To register for the public meeting, send registration information (including your name, title, affiliation, address, email, and telephone), to Jonathan Hicks by May 11, 2017. If you would like to listen to the meeting by phone, please submit a request for a dial-in number by May 11, 2017. If you need special accommodations due to a disability, please contact Jonathan Hicks by May 18, 2016.

Requests for Oral Presentations: If you wish to make an oral presentation, you should notify Jonathan Hicks by May 11, 2017, and submit a brief statement of the general nature of the evidence or arguments that you wish to present, your name, title, affiliation, address, email, and telephone, and indicate the approximate amount of time you need to make your presentation. You may present proposals for future ICCR agenda items, data, information, or views, in person or in writing, on issues pending at the public meeting. There will be no presentations by phone. Time allotted for oral presentations may be limited to 10 minutes or less for each presenter.

Transcripts: Please be advised that as soon as a transcript of the public meeting is available, it will be accessible at https://www.regulations.gov. It may also be viewed at the Division of Dockets Management (HFA-305), Food and Drug Administration, 5630 Fishers Lane, Rm. 1061, Rockville, MD 20850.

Dated: April 3, 2017.
Leslie Kux,
Associate Commissioner for Policy.

[FR Doc. 2017-06938 Filed 4-6-17; 8:45 am]

BILLING CODE 4164-01-P